DEPARTMENT OF THE INTERIOR

Bureau of Land Management

[OR-957-00-6334-BJ: GP07-0176]

Filing of Plats of Survey: Oregon/Washington; In Reply Refer to: 1550 (130)P

AGENCY: U.S. Department of the Interior, Bureau of Land Management.

ACTION: Notice.

SUMMARY: The plat of survey of the following described lands is scheduled to be officially filed in the Bureau of Land Management Oregon/Washington State Office, Portland, Oregon, 30 days from the date of this publication.

Willamette Meridian

Washington

T. 11 N., R. 19 E., accepted July 12, 2007.

A copy of the plat may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, (333 SW., 1st Avenue) P.O. Box 2965, Portland, Oregon 97208.

Dated: August 10, 2007.
Fred O'Ferrall,
Branch of Lands and Minerals Resources.

[FR Doc. E7-16667 Filed 8-22-07; 8:45 am]

BILLING CODE 4310-33-P